DEPARTMENT OF THE INTERIOR

Bureau of Land Management

[AK-962-1410-HY-P; AA-8104-2]

Alaska Native Claims Selection

AGENCY: Bureau of Land Management, DOI.

ACTION: Notice of decision approving lands for conveyance.

SUMMARY: Notice is hereby given that an appealable decision approving lands for conveyance pursuant to the Alaska Native Claims Settlement Act will be issued to Ahtna, Inc., for 130.45 acres, located in the vicinity of Copper Center and Chistochina, Alaska, in the following townships: Tps. 1 S., Rs. 1 and 3 E., and T. 11 N., R. 5 E., Copper River Meridian. Notice of the decision will also be published four times in the Copper Valley Weekly.

DATES: The time limits for filing an appeal are:

1. Any party claiming a property interest which is adversely affected by the decision shall have until August 30, 2001 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7599.

FOR FURTHER INFORMATION CONTACT: Nora A. Benson (907) 271-3323.

(Authority: 43 CFR 2650.7(d)).

Nora A. Benson,
Land Law Examiner, Branch of ANCSA Adjudication.

[FR Doc. 01-19034 Filed 7-30-01; 8:45 am]

BILLING CODE 4310-$$-P